DEPARTMENT OF HOUSING AND URBAN DEVELOPMENT

[Docket No. FR-4800-FA-25]

Announcement of Funding Award—FY 2003 Lead-Based Paint Hazard Control Grant Program

AGENCY: Office of the Secretary—Office of Healthy Homes and Lead Hazard Control, HUD.

ACTION: Announcement of funding awards.

SUMMARY: In accordance with section 102(a)(4)(C) of the Department of Housing and Urban Development Reform Act of 1989, this announcement notifies the public of additional funding decisions made by the Department in a competition for funding under the Lead-Based Paint Hazard Control Grant Program Notice of Funding Availability (NOFA). The purpose of the Lead-Based Paint Hazard Control Grant Program is to assist states, Native American Tribes and local governments in undertaking comprehensive programs to identify and control lead-based paint hazards in eligible privately owned housing for rental or owner-occupants in partnership with nonprofit organizations including grassroots faith-based and other community-based organizations. This announcement contains the name and address of the award recipient and the amount of award.

FOR FURTHER INFORMATION CONTACT: Matthew E. Ammon, Department of Housing and Urban Development, Office of Healthy Homes and Lead Hazard Control, Room P3206, 451 Seventh Street SW., Washington, DC, 20410, telephone (202) 755-1785 ext. 158. Hearing- and speech-impaired persons may access the number above via TTY by calling the toll free Federal Information Relay Service at 1-800-877-8339.

SUPPLEMENTARY INFORMATION: HUD's authority for making funding available under the Lead-Based Paint Hazard Control Program NOFA is the Consolidated Appropriations Resolution of 2003, Pub. L. 108-7, approved February 20, 2003. These awards were the result of a competition announced in a Federal Register notice published on April 25, 2003 (68 FR 21279). The purpose of the competition was to award grant funding of approximately $96 million in Fiscal Year 2003 and approximately $7 million in previous year recaptured funds for grants and cooperative agreements for the Lead-Based Paint Hazard Control Grant Program. Applications were scored and selected on the basis of selection criteria contained in that NOFA.

A total of $74,440,446 was awarded to thirty (30) grantees. In accordance with section 102(a)(4)(C) of the Department of Housing and Urban Development Reform Act of 1989 (103 Stat. 1987, 42 U.S.C. 3545), the Department is publishing the names, addresses, and amounts of this awards as follows:

Awardee | Address | Amount awarded
City of Woonsocket | 169 Main Street, Woonsocket, RI 02895 | $585,000
City of El Paso | Two Civic Center Plaza-9th Floor, El Paso, TX 79901-1196 | 721,300
City of National City | 1243 National City Blvd., San Diego, CA 91950 | 2,984,152.00
Hennepin County | 417 North 5th Street, Room 320 Hennepin, MN 55401-1362 | 2,999,834.00
City of Rochester | 30 Church Street, Room 028B, Rochester, NY 14614 | 2,918,430.00
City of Harrisburg | 10 N 2nd Street, Suite 206, Harrisburg, PA 17110 | 3,000,000.00
District of Columbia | 801 N. Capitol Street, Washington, DC 20002 | 2,997,743.00
City of Dubuque | 1805 Central Avenue, Dubuque, IA 52001-3656 | 2,417,399.00
Shelby County | 1075 Mullins Station Rd., Memphis, TN 38134 | 3,000,000.00
State of Penn | P.O. Box 90, 7th Floor, East Wing,Harrisburg, PA 17108-0090 | 3,000,000.00
City of Burlington | 149 Church Street, Room 32, Burlington, VT 05401 | 1,567,019.00
State of Connecticut | 25 Sigourney Street, Hartford, CT 06106 | 3,000,000.00
City of Waterloo | 620 Mulberry Street, Waterloo, IA 50703 | 2,105,800.00
State of Kansas | 1000 SW Jackson, Suite 200, Topeka, KS 66612 | 2,999,955.00
State of New Jersey | 101 South Broad Street, PO Box 806, Trenton, NJ 08625-0806 | 3,000,000.00
City of Sheboygan | 807 Center Avenue, Sheboygan, WI 53081 | 3,000,000.00
State of Maryland | 100 Community Place, Crownsville, MD 21032-2032 | 3,000,000.00
City of Grand Rapids | 300 Monroe Avenue, NW, Grand Rapids, MI 49503 | 2,966,651.00
Cochise County | 1415 Melody Lane, Bldg A, Bisbee, AZ 85603 | 1,981,624.00
City of Roanoke | 215 Church Ave., SW, Roanoke, VA 24011 | 1,543,704.00
East Hartford | 740 Main Street, East Hartford, CT 06108 | 3,000,000.00
City of Erie | 826 Parade Street, Erie, PA 16503 | 3,000,000.00
City of Toledo | One Government Center, Suite 1800, Toledo, OH 43604 | 2,958,448.00
State of Minnesota | 121 East 7th Place, St. Paul, MN 55101 | 2,453,664.00
City of New Orleans | 1340 Poydras Street, Suite 1000, New Orleans Orleans, LA 70112 | 2,904,733.00
City of Warwick | City Hall, Warwick, RI 02886 | 1,887,814.00
County of Santa Cruz | 701 Ocean Street, Room 312, Santa Cruz,CA 95060 | 2,102,118.00
City of Allentown | City of Allentown, Allentown, PA 18101 | 1,149,077.00
Westchester County | 48 Martine Avenue, Room 414, White Plains, NY 10601 | 3,000,000
City of Jacksonville | 128 E. Forsyth Street, Jacksonville, FL 32202-3325 | 2,196,000

(The Catalog of Federal Domestic Assistance number for this program is 14.900.)
Dated: November 5, 2003.
Joseph F. Smith,
Deputy Director, Office of Healthy Homes and Lead Hazard Control.

[FR Doc. 03-29329 Filed 11-24-03; 8:45 am]

BILLING CODE 4210-70-P